DEPARTMENT OF HOMELAND SECURITY

[Docket No. USCIS-2021-0019]

Privacy Act of 1974 System of Records

AGENCY: Office of the Citizenship and Immigration Services Ombudsman, Department of Homeland Security.

ACTION: Notice of a modified system of records.

SUMMARY: In accordance with the Privacy Act of 1974, the U.S. Department of Homeland Security (DHS) proposes to modify and reissue the current DHS system of records notice titled, “DHS/Office of the Citizenship and Immigration Services Ombudsman (CISOMB)-001 Virtual Ombudsman System” and rename it as, “DHS/CISOMB-001 Case Assistance Analytics and Data Integration (CAADI) System.” This system of records enables the DHS Office of the Citizenship and Immigration Services Ombudsman (CIS Ombudsman) to perform its statutory mission, which is to: (1) Assist individuals and employers who are experiencing difficulty resolving immigration benefit-related matters with U.S. Citizenship and Immigration Services (USCIS); (2) identify systemic problems and challenges with the delivery of immigration benefits; and (3) propose changes in the administrative practices of USCIS to mitigate those problems and challenges. This updated system will be included in the DHS inventory of records systems.

DATES: Submit comments on or before November 26, 2021. This modified system will be effective upon publication. New or modified routine uses will be effective November 26, 2021.

ADDRESSES: You may submit comments, identified by docket number DHS-2021-0019 by one of the following methods:

• Federal e-Rulemaking Portal: http://www.regulations.gov. Follow the instructions for submitting comments.

• Fax: 202-343-4010.

• Mail: Lynn Parker Dupree, Chief Privacy Officer, Privacy Office, U.S. Department of Homeland Security, Washington, DC 20528-0655.

Instructions: All submissions received must include the agency name and docket number DHS-2021-0019. All comments received will be posted without change to http://www.regulations.gov, including any personal information provided.

Docket: For access to the docket to read background documents or comments received, go to http://www.regulations.gov.

FOR FURTHER INFORMATION CONTACT: For general questions, please contact: Zoubair Moutaoukil (202) 357-8100, Privacy Point of Contact, Office of the Citizenship and Immigration Services Ombudsman, Washington, DC 20528. For privacy questions, please contact: Lynn Parker Dupree, (202) 343-1717, Chief Privacy Officer, Privacy Office, U.S. Department of Homeland Security, Washington, DC 20528-0655.

SUPPLEMENTARY INFORMATION:

I. Background

Pursuant to the Privacy Act of 1974, 5 U.S.C. 552a, the CIS Ombudsman is giving notice that it proposes to update, rename, and reissue the current system of records titled, “DHS/CISOMB-001 Virtual Ombudsman System” as the “DHS/CISOMB-001 Case Assistance Analytic Data Integration (CAADI) System of Records.” This system of records will ensure the efficient and secure processing of information to aid the CIS Ombudsman in providing assistance to individuals and employers and their representatives in resolving problems with USCIS; identifying areas in which individuals, employers, and their representatives have problems in dealing with USCIS; and to the extent possible, proposing administrative changes to mitigate those problems.

This SORN is being updated to: (1) Provide notice that applicants are allowed to submit the DHS Case Assistance Form 7001 online via the website, https://www.dhs.gov/topic/cis-ombudsman/forms/7001; (2) provide more specificity on the Categories of Records collected; (3) clarify the record source categories, to include information received from other agencies during processing; (4) modify Routine Use “E” and add Routine Use “F” to conform to OMB Memorandum M-17-12; and (5) update the retention schedule.

CAADI is used to efficiently manage the workflow of the submitted requests for case assistance. Individuals/employers (or their legal/accredited representatives) seeking case assistance from the CIS Ombudsman submit their request using the Form DHS-7001, Case Assistance Form, which can be completed and submitted electronically on the CIS Ombudsman website. Individuals/employers are also able to attach and submit supporting documentation related to their request, such as paperwork previously submitted to USCIS. Cases within CAADI have a corresponding field for each section of Form DHS-7001, so that each piece of information entered by the individual/employer appears in the CAADI record.

CAADI assists the CIS Ombudsman in accomplishing its statutory mandate in a more efficient and effective manner and reduces the amount of time dedicated to data entry and collection by affording an individual or employer with the option to submit their information electronically. CIS Ombudsman also uses the data from this system of records to generate reports and statistics to assist with identifying systemic challenges and trends, as well as proposing changes to mitigate those issues.

CIS Ombudsman personnel, when appropriate, may send inquiries to USCIS and other DHS Components, as well as the U.S. Departments of State, Labor, and Justice, to resolve case issues or to obtain case status. The CIS Ombudsman may provide those departments with information such as receipt numbers and beneficiary or petitioners' names to obtain status updates in order to assist individuals and employers. This type of information is generally stored in those agencies' files, records, and databases.

II. Privacy Act

The Privacy Act embeds Fair Information Practice Principles in a statutory framework governing the means by which Federal Government agencies collect, maintain, use, secure, and disseminate individuals' records. The Privacy Act applies to information that is maintained in a “system of records,” a group of any records under the control of an agency from which information is retrieved by the name of an individual or by some identifying number, symbol, or other identifier assigned to the individual. In the Privacy Act, an individual is defined to encompass U.S. citizens and lawful permanent residents. Additionally, and similarly, the Judicial Redress Act (JRA) provides covered persons with a statutory right to make requests for access and amendment to covered records, as defined by the JRA, along with judicial review for denials of such requests. In addition, the JRA prohibits disclosures of covered records, except as otherwise permitted by the Privacy Act.

The description of the DHS/CISOMB-001 Case Assistance Analytic Data Integration (CAADI) System of Records is provided below.

In accordance with 5 U.S.C. 552a(r), DHS has provided a report of this system of records to the Office of Management and Budget and to Congress.

System of Records:

SYSTEM NAME AND NUMBER:

U.S. Department of Homeland Security (DHS)/Office of Citizenship and Immigration Services Ombudsman-001 Case Assistant Analytic Data Integration System (CAADI) System of Records.

SECURITY CLASSIFICATION:

Unclassified.

SYSTEM LOCATION:

Records are maintained at the Office of Citizenship and Immigration Services Ombudsman in Washington, DC.

SYSTEM MANAGER(S):

Kelly Kingsley, Management and Program Analyst, (202) 357-8485, Office of Citizenship and Immigration Services Ombudsman, 375 E St. SW, Washington, DC 20024.

AUTHORITY FOR MAINTENANCE OF THE SYSTEM:

Section 452 of the Homeland Security Act of 2002; 6 U.S.C. 272.

PURPOSE(S) OF THE SYSTEM:

The purpose of this system of records is to provide efficient and secure case management and processing of information related to individuals and employers experiencing problems with USCIS.

CATEGORIES OF INDIVIDUALS COVERED BY THE SYSTEM:

Any individuals or persons, including their employers or representatives, who are seeking assistance from the CIS Ombudsman in resolving general problems with USCIS.

CATEGORIES OF RECORDS IN THE SYSTEM:

The CIS Ombudsman collects the following information via Form DHS-7001 from individuals who seek assistance in resolving problems with USCIS:

• Full legal name, including any aliases;

• Date and country of birth;

• Country of citizenship;

• A-Number;

• Contact information, including mailing address, email address, phone number, and fax number;

• Full legal name of person preparing the form if other than the individual named in the application or petition;

• Applications and/or petitions filed;

• Receipt number received from USCIS in response to application/petition filed;

• Immigration status or interim benefit applied or petitioned for;

• Type of case problem;

• Source of case problem;

• Description of case problem;

• Prior actions taken to remedy the problem;

• Designated attorney/representative name, address, phone number, email address, and fax number;

• Supporting documentation attached to submissions, such as evidence submitted to USCIS, documents received from USCIS, or other information the individual feels is relevant or important;

• Consent of the petitioner for USCIS to disclose information in the file to the designated representative, if applicable;

• Verification statement signed and dated by the subject of the request or the authorized representative; and

• Declaration by the attorney or accredited representative submitting the case problem.

RECORD SOURCE CATEGORIES:

Records are obtained from individuals or persons seeking assistance, including their employers or representatives, and USCIS, or other agencies such as the U.S. Departments of State, Labor, and Justice.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3), as follows:

A. To the Department of Justice (DOJ), including the U.S. Attorney's Offices, or any other federal agencies conducting litigation or proceedings before any court, adjudicative, or administrative body, when it is relevant or necessary to the litigation and one of the following is a party to the litigation or has an interest in such litigation:

1. DHS or any Component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration (GSA) pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that, as a result of the suspected or confirmed breach, there is a risk of harm to individuals, DHS (including its information systems, programs, and operations), the Federal Government, or national security; and (3) the disclosure made to such agencies, entities, and persons is reasonably necessary to assist in connection with DHS's efforts to respond to the suspected or confirmed breach, or to prevent, minimize, or remedy such harm.

F. To another federal agency or entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To an attorney or representative who is acting on behalf of an individual covered by this system of records to obtain the individual's information submitted to the CAADI System.

POLICIES AND PRACTICES FOR STORAGE OF RECORDS:

The CIS Ombudsman stores records in this system electronically or on paper in secure facilities in a locked drawer behind a locked door.

POLICIES AND PRACTICES FOR RETRIEVAL OF RECORDS:

The CIS Ombudsman's retrieves records by Case Number, A-Number, or the individual's name.

POLICIES AND PRACTICES FOR RETENTION AND DISPOSAL OF RECORDS:

In accordance with NARA's approved retention and disposal schedule DAA-0563-2019-0004-0001, the processed case files are resolved at the final disposition of the case and are deleted or destroyed three years after resolution. Incomplete case files are the record copy of cases where additional information is requested, but not received. The CIS Ombudsman's procedure is to close such cases seven days after the request for additional information, if such information is not received. These records are also deleted or destroyed three years after resolution.

ADMINISTRATIVE, TECHNICAL, AND PHYSICAL SAFEGUARDS:

The CIS Ombudsman safeguards records in this system according to applicable rules and policies, including all applicable DHS automated systems security and access policies. The CIS Ombudsman has imposed strict controls to minimize the risk of compromising the information that is stored. Access to the computer system containing the records in this system is limited to those individuals who have a need to know the information for the performance of their official duties, and who have appropriate clearances or permissions.

RECORD ACCESS PROCEDURES:

Individuals seeking access to and notification of any record contained in this system of records, or seeking to contest its content, may submit a request in writing to the DHS Chief Privacy Officer and Chief Freedom of Information Act Officer, whose contact information can be found on page two of this document. If an individual believes more than one DHS Component maintains Privacy Act records concerning him or her, the individual may submit the request to the DHS Chief Privacy Officer and Chief Freedom of Information Act Officer. Even if neither the Privacy Act nor the JRA provide a right of access, certain records about you may be available under the Freedom of Information Act (FOIA).

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. In addition, the individual should:

• Explain why he or she believes the Department would have the information being requested;

• Identify which DHS Component may have the information;

• Specify when the individual believes the records would have been created; and

• Provide any other information that will help the FOIA staff determine which DHS component agency may have responsive records.

If the request is seeking records pertaining to another living individual, the request must include an authorization from the individual whose record is being requested, authorizing the release to the requester.

Without the information above, the DHS Component(s) may not be able to conduct an effective search, and the individual's request may be denied due to lack of specificity or lack of compliance with applicable regulations.

CONTESTING RECORD PROCEDURES:

For records covered by the Privacy Act or covered JRA records, individuals may make a request for amendment or correction of a record of the Department about the individual by writing directly to the DHS Component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record. The CIS Ombudsman may amend requestor-specific information upon notification from that individual. Additionally, the CIS Ombudsman may verify information submitted by the requestor against other agency databases; amendments may also be made as a result. Amendments may be made in case notes or by overwriting inaccurate information. Requestors are notified of material changes.

NOTIFICATION PROCEDURES:

See “Record Access Procedures” above.

EXEMPTIONS PROMULGATED FOR THE SYSTEM:

When this system receives a record from another system exempted in that source system under 5 U.S.C. 552a(j)(2), DHS will claim the same exemptions for those records that are claimed for the original primary systems of records from which they originated.

HISTORY:

DHS/CISOMB-001, 75 FR 18857 (April 13, 2010).

* * * * *

Lynn Parker Dupree,
Chief Privacy Officer, U.S. Department of Homeland Security.

[FR Doc. 2021-23342 Filed 10-26-21; 8:45 am]

BILLING CODE 9112-FJ-P